ENVIRONMENTAL PROTECTION AGENCY

[EPA-HQ-OPPT-2017-0716; FRL-9978-06]

Certain New Chemical Substances; Receipt and Status Information for February 2018

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application under 40 CFR part 725 (Biotech exemption); an application for a test marketing exemption (TME), both pending and/or concluded; a notice of commencement (NOC) of manufacture (including import) for new chemical substances; and a periodic status report on new chemical substances that are currently under EPA review or have recently concluded review. This document covers the period from February 1, 2018 to February 28, 2018.

DATES: Comments identified by the specific case number provided in this document must be received on or before July 5, 2018.

ADDRESSES: Submit your comments, identified by docket identification (ID) number EPA-HQ-OPPT-2017-0716, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, Information Management Division (MC 7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from February 1, 2018 to February 28, 2018. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the Toxic Substances Control Act (TSCA), 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs received by EPA during this period, Table I provides the following information (to the extent that such information is not subject to a CBI claim) on the notices received by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g. P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Received From 2/1/2018 to 2/28/2018
Case No. | Version | Received date | Manufacturer | Use | Chemical substance
P-16-0397A | 6 | 2/23/2018 | CBI | (G) Contained use in a closed process | (G) Zirconium salt.
P-16-0544A | 3 | 2/13/2018 | Guardian Industries Corp | (S) Additive to influence melting temperature of raw materials and physical characteristics of the final product during the manufacture of flat glass | (S) Flue dust, glass-manufg. desulfurization, calcium hydroxide-treated.
P-16-0581A | 2 | 2/12/2018 | CBI | (S) Polymer Additive; Paper Coating Component; Composite Component; Fiber Additive | (G) Alpha 1,3-polysaccharide.
P-17-0253A | 2 | 2/16/2018 | CBI | (G) The polymer will be sold to the customer in liquid form. Customers will then blend the polymer to achieve their desired formulation properties | (G) Oxirane, 2-methyl-, polymer with oxirane, methyl 2-(substituted carbomonocycle isoquinolin-2(3H)-yl) propyl ether.
P-17-0400A | 4 | 2/16/2018 | CBI | (G) Rubber products | (G) Terpolymer of Vinylidene fluoride, Tetrafluoroehylene and 2,3,3,3-Tetrafluoropropene.
P-18-0015A | 2 | 2/12/2018 | CBI | (G) Industrial inks and coatings | (G) Dialkylamine, reaction products with polyalkylene glycol ether with alkylolalkane acrylate.
P-18-0049A | 2 | 2/1/2018 | Solvay Fluorides LLC | (G) Coating component/processing aid | (G) Mixed metal halide.
P-18-0062A | 3 | 2/20/2018 | IMKorus, Inc. | (G) Open, non-dispersive use in coatings specifically for the electronics fields | (S) Oxirane, 2,2′-[cyclohexylidenebis(4,1-phenyleneoxymethylene)]bis-.
P-18-0084 | 2 | 2/6/2018 | ShayoNano USA, Inc. | (S) Additive for paints and coatings | (S) Silicon zinc oxide.
P-18-0092A | 3 | 2/6/2018 | Shell Chemical LP—Martinez Catalyst Plant | (G) The TBPMI chemical is used as a catalyst, the catalyst is imported and used in the manufacture of monoethlyene glycol (MEG) | (S) Phosphonium, tributylmethyl-, iodide (1:1).
P-18-0102A | 2 | 2/5/2018 | Allnex USA, Inc | (G) UV Curable Coating Resin | (G) Alkanoic acid, ester with [oxybis(alkylene)]bis[alkyl-substituted alkanediol], polymer with alkylcarbonate, alkanediols, substituted alkanoic acid and isocyanate and alkyl substituted carbomonocycle, sodium salt.
P-18-0103 | 2 | 2/5/2018 | CBI | (S) Intermediate for Amine Manufacture | (G) Alkylnitrile imidazole.
P-18-0105 | 1 | 2/1/2018 | Reagens USA, Inc | (S) This product is used in rigid and flexible PVC processing as a booster of PVC stabilizers. It improves long term stability, initial color and the weathering performance of end products | (S) Phosphorous acid, triisotridecyl ester.
P-18-0106 | 2 | 2/8/2018 | CBI | (S) Process aid | (G) Perfluoro[(alkenyl)oxy] alkane-, manuf. of, by-products from, distn. residues.
P-18-0107 | 1 | 2/6/2018 | Lanxess Corporation | (S) Hydrolysis stabilizer | (G) Alcohol capped polycarbodiimide from diethyldiisocyanatobenzene.
P-18-0108 | 1 | 2/12/2018 | CBI | (G) Ionic salt of a polyamic acid for coatings, open, non-dispersive use | (G) Aromatic anhydride polymer with bisalkylbiphenylbisamine compound with alkylaminoalkyl acrylate ester.
P-18-0109 | 1 | 2/16/2018 | CBI | (G) Additive, open, non-dispersive use | (G) 2-Alkenoic acid, 2-alkyl-, alkyl ester, polymer with 2-(dialkylamino)alkyl 2-alkyl-2-alkenoate, alkyl 2-alkyl-2-alkenoate and -(2-alkyl-1-oxo-2-alken 1-yl)-¿-alkoxypoly(oxy-1,2-alkanediyl), [(1-alkoxy-2-alkyl-1-alken-1-yl)oxy]trialkylsilane-initiated.
P-18-0110 | 1 | 2/16/2018 | CBI | (G) Open dispersive use. Component in liquid paint coating | (G) Formaldehyde, polymer with arylylpolyamine, 2-(chloromethyl) oxirane and phenol.
P-18-0111 | 1 | 2/16/2018 | CBI | (G) Component in liquid paint coating | (G) Formaldehyde, polymer with arylylpolyamine, 2-(chloromethyl) oxirane and phenol.
P-18-0112 | 1 | 2/18/2018 | CBI | (G) Corrosion inhibitor | (S) 3,5,5-trimethylhexanoic acid, compound with 2-aminoethanol (1:1).
P-18-0113 | 1 | 2/18/2018 | CBI | (G) Corrosion inhibitor | (S) 3,5,5-trimethylhexanoic acid, compound with 2,2′,2″-nitrilotris(ethanol) (1:1).
P-18-0112A | 2 | 2/20/2018 | CBI | (G) Corrosion inhibitor | (S) 3,5,5-trimethylhexanoic acid, compound with 2-aminoethanol (1:1).
P-18-0113A | 2 | 2/20/2018 | CBI | (G) Corrosion inhibitor | (S) 3,5,5-trimethylhexanoic acid, compound with 2,2′,2″-nitrilotris(ethanol) (1:1).
P-18-0114 | 1 | 2/19/2018 | Miwon North America, Inc | (S) Resins for industrial coating | (G) Propanoic acid, hydroxy- (hydroxyalkyl)-alkyl-, polymer with 1,6-diisocyanatoalkane and poly[oxy(alkyl-alkanediyl)] ether with alkyl (hydroxyalkyl)-alkanediol, 2-propenoate (ester), lithium salt, glycerol monoacrylate 1-neodecanoate- and alkylene glycol monoacrylate-blocked.
P-18-0116 | 1 | 2/27/2018 | CBI | (G) Intermediate for industrial chemical | (G) Fatty acid oil reaction product with fatty acid oil.
P-18-0118 | 1 | 2/26/2018 | H.B. Fuller Company | (G) Industrial adhesive | (G) Oxirane, 2-methyl-, polymer with methoxirane homopolymer, 1,1′-methylenebis[4-isocyanatobenzene], and glycerol-propylene oxide polymer.
P-18-0119 | 1 | 2/26/2018 | H. B. Fuller Company | (G) Industrial adhesive | (G) Oxirane, 2-methyl-, polymer with methoxirane homopolymer, 1,1′-methylenebis[isocyanatobenzene], and glycerol-propylene oxide polymer.
P-18-0120 | 1 | 2/26/2018 | Designer Molecules, Inc | (G) Adhesive component | (S) Amines, C36-Alkylenedi, maleated.
P-18-0121 | 1 | 2/27/2018 | Kyodo Yushi USA, Inc | (G) Additive for Lubricating Grease | (S) Benzene, 1,1′-oxybis-, branched eicosyl derivs.
SN-17-0005A | 3 | 2/7/2018 | Domino Amjet, Inc. | (S) Raw material for use as component in UV curable coatings and printing inks. | (S) 2-Propenoic acid, 1,1′-(3-methyl-1,5-pentanediyl) ester.
SN-18-0002 | 1 | 2/16/2018 | CBI | (G) Flame retardant for textile | (G) Phosphoramidic acid, carbomonocyclic-, diphenylester (accession number 261553).
J-18-0002 | 1 | 2/12/2018 | CBI | (G) Ethanol production | (G) Biofuel producing Saccharomyces cerevisiae modified, genetically stable.
J-18-0003 | 1 | 2/12/2018 | CBI | (G) Ethanol production | (G) Biofuel producing Saccharomyces cerevisiae modified, genetically stable.

In Table II. of this unit, EPA provides the following information (to the extent that such information is not claimed as CBI) on the NOCs received by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II— NOCs Received From 2/1/2018 to 2/28/2018
Case No. | Received date | Commencement date | If amendment, type of amendment | Chemical substance
P-03-0458 | 2/19/2018 | 1/23/2018 |  | (S) 2-Propenoic acid, 2-methyl-, methyl ester, polymer with butyl 2-propenoate, ethyl 2-propenoate, zinc bis(2-methyl-2-propenoate) and zinc di-2-propenoate, 2,2′-azobis[2-methylbutanenitrile]-and 2,2′-azobis[2-methylpropanenitrile]- initiated.
P-07-0391 | 2/21/2018 | 10/25/2007 |  | (S) Propanoic acid, 3-hydroxy-2-(hydroxymethyl)-2-methyl-, polymer with dimethyl carbonate, 1,2-ethanediamine, 1,6-hexanediol, α-hydro-∞-hydroxypoly(oxy-1,4-butanediyl) and 1,1′-methylenebis[4-isocyanatocyclohexane]compd. With N,N-diethylethanamine.
P-07-0403 | 2/6/2018 | 5/1/2007 |  | (G) Adipic carbamate.
P-07-0448 | 2/1/2018 | 10/16/2007 |  | (G) Secondary Amine Adduct.
P-09-0124 | 2/20/2018 | 2/28/2011 |  | (S) Methanone, (4-chlorophenyl) (4-hydroxyphenyl)-, Homopolymer.
P-12-0020 | 2/16/2018 | 1/28/2014 |  | (S) Propanoic aid, 3-hydroxy-2-(hydroxymethyl)-2-methyl-, polymer with 2,2-dimethyl-1,3-propanediol, 1,2-ethanediamine, 2-ethyl-2-(hydroxymethyl)-1,3-propanediol, 5-isocyanato-1-(isocyanatomethyl)-1,3,3-trimethylcyclohexane and 2-oxepanone, comp. with N,N-diethylethanamine.
P-12-0034 | 2/16/2018 | 1/28/2014 |  | (S) 2-Propenoic acid, 2-methyl-, polymer with butyl 2-propenoate, ethyl 2-propenoate, methyl 2-methyl-2-propenoate and 2-methyl-2-propenamide.
P-12-0172 | 2/2/2018 | 9/13/2012 |  | (G) 1,4-Benzenedicarboxylic acid, polymer with hexanedioic acid, 1, 6-hexanediol, 1,1′-methylenebis[4-isocyanatobenzene], and substituted[(alkylidene)-di-4,1-phenylene] bis[-hydroxypoly[oxy(methyl-1,2-ethanediyl)]].
P-12-0374 | 2/13/2018 | 1/29/2018 |  | (S) 1,6-Hexanediaminium, N1, N6-bis(2-hydroxymethylethyl)-N1,N1,N6,N6-tetramethyl-, hydroxide (1:2).
P-13-0047 | 2/26/2018 | 2/8/2018 |  | (G) Fatty acid amide.
P-13-0074 | 2/26/2018 | 2/12/2018 |  | (G) Fatty acid amide hydrochloride.
P-13-0325 | 2/8/2018 | 1/22/2018 |  | (G) Castor oil dehydrated, polymer with di-alkyl carbonate, alkyl diamine, alkyl diol, dihydroxyalkyl carboxylic acid and methylenebis [isocyanatocycloalkane]-, compd. with triakylamine.
P-13-0570 | 2/20/2018 | 3/26/2015 |  | (S) 1,4-Benzinedicarbonyl dichloride, Polymer with 1,1′ Oxybis [benzene].
P-13-0572 | 2/20/2018 | 3/27/2015 |  | (S) Benzoic acid, 3,4-diamino-, Homopolymer.
P-13-0886 | 2/6/2018 | 1/19/2015 |  | (G) Fluoroelastomer.
P-13-0924 | 2/9/2018 | 3/9/2014 |  | (G) Phosphated mono- and diglycerides (PMDG).
P-14-0301 | 2/7/2018 | 1/29/2018 |  | (G) Alkanedioic acid, polymer with alkanediol, hydroxy-(hydroxymethyl)-2-alkylcarboxylic acid, methylenebis[isocyanatocycloalkane] and alkyl-2-alkylalkenoate, compd. with alkyl morpholine.
P-14-0304 | 2/7/2018 | 1/30/2018 |  | (G) alkanedioic acid, polymer with N-(1,1-dimethyl-3-oxobutyl)-2-propenamide, 1,6-hexanediol, hydroxy-(hydroxymethyl)-2-alkyl carboxylic acid, methylenebis[isocyanatocycloalkane] and alkyl-2-alkyl-alkenoate, compd. With N,N-dialkylalkylamine.
P-14-0627 | 2/5/2018 | 2/1/2018 |  | (S) 1-Butylpyrrolidin-2-one.
P-15-0134 | 2/8/2018 | 1/1/2018 |  | (G) Cashew, nutshell liq., polymer with formaldehyde and amines.
P-15-0134A | 2/28/2018 | 1/1/2018 | Specific Name | (G) Cashew, nutshell liq., polymer with formaldehyde and amines.
P-15-0277 | 2/28/2018 | 2/5/2018 |  | (S) 1,3-Butanediol, 3-methyl-, acetate.
P-15-0383 | 2/2/2018 | 1/29/2018 |  | (S) Butanedioic acid, 2-methylene-, telomer with sodium phosphinate (1:1), sodium salt, decarboxylated.
P-15-0428 | 2/20/2018 | 2/20/2018 |  | (G) Alkyl pyridinium bromide.
P-15-0439 | 2/20/2018 | 2/8/2018 |  | (S) 1,4-Dioxane-2,5-dione, 3,6-dimethyl-, (3S,6S)-, polymer with 2-oxepanone.
P-16-0044 | 2/1/2018 | 4/7/2017 |  | (G) Isocyanate functional urethane prepolymer.
P-16-0516 | 2/6/2018 | 1/26/2018 |  | (S) 2-Pyridinecarboxylic acid, 4-amino-6-(4-chloro-2-fluoro-3-methoxyphenyl)-5-fluoro-, phenylmethyl ester, hydrochloride (1:1).
P-16-0573 | 2/27/2018 | 2/7/2018 |  | (G) Polyamine polyacid adducts.
P-17-0228 | 2/22/2018 | 1/18/2018 |  | (G) 2′-fluoro-4″-alkyl-4-propyl-1,1′:4′,1″-terphenyl.
P-17-0229 | 2/22/2018 | 1/18/2018 |  | (G) 4-ethyl-2′-fluoro-4″-alkyl-1,1′:4′,1″-terphenyl.
P-17-0257 | 2/27/2018 | 1/31/2018 |  | (S) Single Walled Carbon Nanotube.
P-17-0308 | 2/20/2018 | 1/10/2018 |  | (S) 2-Pentanone, O,O′,O″-(ethenylsilylidyne)trioxime.
P-17-0308A | 2/28/2018 | 1/10/2018 | Specific Name | (S) 2-Pentanone, 2,2′,2″-[O,O′,O″-(ethenylsilylidyne)trioxime].
P-17-0309 | 2/20/2018 | 1/10/2018 |  | (S) 2-Pentanone, 2,2′,2″-[O,O′,O″-(methylsilylidyne)trioxime]

In Table III. of this unit, EPA provides the following information (to the extent such information is not subject to a CBI claim) on the test information received by EPA during this time period: The EPA case number assigned to the test information; the date the test information was received by EPA, the type of test information submitted, and chemical substance identity.

Table III—Test Information Received From 2/1/2018 to 2/28/2018
Case No. | Received date | Type of test information | Chemical substance
P-87-1436 | 2/28/2018 | QSAR Assessment Report on Vinyl Laurate; Skin Sensitization; Sub-Chronic (13 Week) Oral Toxicity Study; Aquatic Toxicity—Daphnia; Aquatic Toxicity—Daphnia Reproductive, Aquatic Toxicity—Algal Growth; Combined Repeated Dose Toxicity Study with the Reproduction/Developmental Toxicity Screening Test (OECD 422); Chromosome Aberration Test (OECD 473); Gene Mutation Assay (OECD 476); Micronucleus Test (OECD 474); Prenatal Developmental Toxicity Study (OECD 414); Ready Biodegradability (OECD 301); Dermal Irritation/Corrosion (OECD 404); Bacterial Reverse Mutation Assay (Ames Test) (OECD 471); Fish Acute Toxicity (OECD 203); Activated Sludge Test (OECD 209); Acute Oral Toxicity (OECD 401); Eye Irritation (OECD 405); Acute Dermal Toxicity (OECD 402) | (S) Dodecanoic acid, ethenyl ester.
P-14-0321 | 2/7/2018 | Quarterly Ambient Air Monitoring Report | (S) 2-Chloro-1,1,1,2-Tetrafluoropropane(244bb).
P-14-0323 | 2/7/2018 | Quarterly Ambient Air Monitoring Report | (S) 1-Propene, 2-chloro-3,3,3-trifluoro-.
P-15-0054 | 2/19/2018 | Test Plan for 2018—physical characteristics of the CNT (TEM; SEM; AFM; Surface Area; XRD; Raman; XPS; EDS; ICP; Zeta Potential & ZDS) | (G) Carbon Nanotube.
P-16-0393 | 2/20/2018 | Report for Fish, Juvenile Growth Test of CBI (OECD 211); Report for Daphnia sp., Reproduction Test (OECD 215) | (G) Di-substituted benzenedicarboxylic acid ester.
P-16-0543 | 2/28/2018 | January 2018 Exposure Monitoring Results | (G) Halogenophos- phoric acid metal salt.
P-17-0193 | 2/26/2018 | Reproductive/Developmental Data on Potential Hydrolysis Products | (G) Pentaerythritol Ester of Mixed Linear and Branched Carboxylic Acids, Dipentaerythritol Ester of Mixed Linear and Branched Carboxylic Acids.
P-17-0329 | 2/12/2018 | 90-day Repeated Dose Oral Toxicity (OECD 408); Activated Sludge Respiration Inhibition (OECD 209); Acute Dermal Irritation (OECD 404); Acute Dermal Toxicity(OECD 402); Acute Eye Irritation (OECD 405); Acute Inhalation Toxicity (OECD 436); Acute Oral Toxicity (OECD 423); Acute Toxicity in Fish (OECD 203); Adsorption-Desorption (OECD 106); Algae Growth Inhibition (OECD 201); Bacterial Reverse Mutation Assay (OECD 471); Bioaccumulation Study (OECD 305); Chronic Toxicity in Fish (OECD 212); Daphnia magna Reproduction (OECD 211); Daphnia sp. Acute Immobilization (OECD 202); Density Test (OECD 109); Flammability; Earthworm Acute Toxicity (OECD 207); Glove Permeation Testing; Hydrolysis as a function of pH (OECD 111); In Vitro Mammalian Chromosomal Aberration (OECD 473); Inherent Biodegradability (OECD 302); Laser Particle Size Distribution; Melting Point (OECD 102); Mouse Bone Marrow Polychromatic Erythrocyte Micronucleus (OECD 474); N-octanol-water Partition Coefficient (OECD 117); Oral Prenatal Developmental Toxicity (OECD 414); Ready Biodegradability (OECD 301); Seed Germination-Root Elongation (OECD 299); Skin Sensitization in Guinea Pig (OECD 406); Solid Relative Self-Ignition Temperature; HPLC/MS/IR/NMR Spectral Test Report; Two Generation Reproduction Study in Rats; Water Solubility (OECD 105); Whole-course Toxicokinetics (OECD 417) | (G) Substituted haloaromatic trihaloalkyl-aromatic alkanone.
P-17-0364 | 2/22/2018 | Dynamic Data for Particle Size Distribution | (G) Dicyloalkyl-alkane-di-isocyanate homopolymer, alkyl alcohol and polyalkyl glycol mono-alkyl-ether-blocked.
P-18-0009 | 2/13/2018 | Reproduction/Development Toxicity Screening Test (OECD 421) | (G) Phosphonic acid, dimethyl ester, polymer with alkyl diols.
P-18-0047 | 2/13/2018 | 90-day oral toxicity in rodents (OECD 408) and Combined Repeated Dose Toxicity Study with the Reproduction/Developmental Toxicity Screening Test (OECD 422) | (S) 1,2-Ethanediol, 1,2-dibenzoate.
P-18-0093 | 2/13/2018 | Particle Size Analysis | (G) Pentacyclo[9.5.1.13,9.15,15.17,13]octasiloxane, 1,3,5,7,9,11,13,15-octakis (polyfluoroalkyl)-

If you are interested in information that is not included in these tables, you may contact EPA's technical information contact or general information contact as described under FOR FURTHER INFORMATION CONTACT to access additional non-CBI information that may be available.

Authority: 15 U.S.C. 2601 et seq.

Dated: May 15, 2018.
Pamela Myrick,
Director, Information Management Division, Office of Pollution Prevention and Toxics.

[FR Doc. 2018-12059 Filed 6-4-18; 8:45 am]

BILLING CODE 6560-50-P